DEPARTMENT OF THE TREASURY

Submission for OMB Review; Comment Request

March 10, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 17, 2003 to be assured of consideration.

Internal Revenue Service (IRS)

OMB Number: 1545-1499.

Revenue Procedure Number: Revenue Procedure 96-52.

Type of Review: Extension.

Title: Acceptance Agents.

Description: Revenue Procedure 96-52 describes application procedures for becoming an acceptance agent and the requisite agreement that an agent must execute with IRS.

Respondents: Business or other for-profit, Individuals or households, Not-for-profit institutions, Federal Government, State, Local or Tribal Government.

Estimated Number of Respondents: 12,825.

Estimated Burden Hours Per Respondent: 3 hours, 12 minutes.

Estimated Total Reporting Burden: 41,006 hours.

OMB Number: 1545-1805.

Form Number: IRS Form 8880.

Type of Review: Extension.

Title: Credit for Qualified Retirement Savings Contributions.

Description: Form 8880 is used to allow qualifying taxpayers to take a nonrefundable credit for contributions made to their qualified retirement accounts. These accounts can be IRA's, Roth IRA's, or qualified employer sponsored retirement plans.

Respondents: Individual or household.

Estimated Number of Respondents/Recordkeepers: 1,000,000.

Estimated Burden Hours Per Respondent/Recordkeeper:

Recordkeeping—19 min.

Learning about the law or the form—9 min.

Preparing the form—29 min.

Copying, assembling, and sending the form to the IRS—20 min.

Frequency of Response: Annually.

Estimated Total Reporting/Recordkeeping Burden: 1,310,000 hours.

OMB Number: 1545-1807.

Form Number: IRS Form 8885.

Type of Review: Revision.

Title: Health Insurance Credit for Eligible Recipients.

Description: Form 8885 is used to allow a qualifying individual to take a credit for health insurance premiums paid either by them or their behalf on their tax return.

Respondents: Individuals or households.

Estimated Number of Respondents/Recordkeepers: 300,000.

Estimated Burden Hours Per Respondent/Recordkeeper:

Recordkeeping—13 min.

Learning about the law or the form—9 min.

Preparing the form—18 min.

Copying, assembling, and sending the form to the IRS—20 min.

Frequency of Response: Annually.

Estimated Total Reporting/Recordkeeping Burden: 303,000 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports, Management Officer.

[FR Doc. 03-6386 Filed 3-17-03; 8:45 am]

BILLING CODE 4830-01-P